ENVIRONMENTAL PROTECTION AGENCY

[FRL-7558-6]

Gulf of Mexico Program Management Committee Meeting

AGENCY: Environmental Protection Agency ( EPA).

ACTION: Notice of meeting.

SUMMARY: Under the Federal Advisory Committee Act (Pub. L. 92-463), EPA gives notice of a meeting of the Gulf of Mexico Program (GMP) Management Committee (MC).

DATES: The meeting will be held on Wednesday, October 8, 2003, 10 a.m. to 5 p.m., and on Thursday, October 9, 2003, from 8:30 a.m. to 3 p.m..

ADDRESSES: The meeting will be held at the Homewood Suites Hotel, 901 Poydras Street, New Orleans, Louisiana. (1-504-581-5599).

FOR FURTHER INFORMATION CONTACT: Gloria D. Car, Designated Federal Officer, Gulf of Mexico Program Office, Mail Code EPA/GMPO, Stennis Space Center, MS 39529-6000 at (228) 688-2421.

SUPPLEMENTARY INFORMATION: Agenda items include Gulf of Mexico Program Workplan Review FY2000-2003.

The meeting is open to the public.

Dated: September 8, 2003.
Gloria D. Car,
Designated Federal Officer.

[FR Doc. 03-23425 Filed 9-12-03; 8:45 am]

BILLING CODE 6560-50-P